DEPARTMENT OF COMMERCE

National Oceanic and Atmospheric Administration

RIN 0648-XC136

Marine Mammals; File No. 17152

AGENCY: National Marine Fisheries Service (NMFS), National Oceanic and Atmospheric Administration (NOAA), Commerce.

ACTION: Notice; receipt of application.

SUMMARY: Notice is hereby given that PRBO Conservation Science, 3820 Cypress Drive, #11, Petaluma, California 94954 (Responsible Party: Russ Bradley), has applied in due form for a permit to conduct research on pinnipeds in California.

DATES: Written, telefaxed, or email comments must be received on or before September 12, 2012.

ADDRESSES: The application and related documents are available upon written request or by appointment in the following offices:

Permits and Conservation Division, Office of Protected Resources, NMFS, 1315 East-West Highway, Room 13705, Silver Spring, MD 20910; phone (301) 427-8401; fax (301) 713-0376; and

Southwest Region, NMFS, 501 West Ocean Blvd., Suite 4200, Long Beach, CA 90802-4213; phone (562) 980-4001; fax (562) 980-4018.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Sloan or Tammy Adams, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant requests a five-year permit to study and monitor population trends, health, and ecology of pinnipeds in California, specifically at the Farallon Islands, Point Reyes Peninsula, Año Nuevo, San Francisco Bay, and in Sonoma County near the Russian River. Up to 325 harbor seals (Phoca vitulina richardii) will be captured, sedated, sampled, marked, and instrumented annually; up to 5,500 harbor seals will be incidentally harassed annually during captures and ground surveys/photo-identification. Ten unintentional mortalities of harbor seals are requested over the duration of the permit. Each year, up to 2,500 northern elephant seals (Mirounga angustirostris) will be handled for marking without capture; up to 100 elephant seals will be handled for swab sampling without capture; up to 150 elephant seals will be captured, marked, weighed, and sampled (swabs and blood); and up to 1,000 elephant seals may be incidentally harassed during captures and ground monitoring/photo-identification. Researchers will also conduct ground surveys and photo-identification of and may harass 2,000 California sea lions (Zalophus californianus) and 75 northern fur seals (Callorhinus ursinus) annually. Steller sea lions (Eumetopias jubatus) will be monitored but will not be harassed.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 3, 2012.
P. Michael Payne,
Chief, Permits and Conservation Division, Office of Protected Resources, National Marine Fisheries Service.

[FR Doc. 2012-19795 Filed 8-10-12; 8:45 am]

BILLING CODE 3510-22-P